DEPARTMENT OF COMMERCE

Foreign-Trade Zones Board

Order No. 1408

Expansion Of Foreign-Trade Zone 8, Toledo, Ohio, Area

Pursuant to its authority under the Foreign-Trade Zones Act of June 18, 1934, as amended (19 U.S.C. 81a-81u), the Foreign-Trade Zones Board (the Board) adopts the following Order:

Whereas, the Toledo-Lucas County Port Authority, grantee of Foreign-Trade Zone 8, submitted an application to the Board for authority to expand FTZ 8 to include a site (Site 6 - 86 acres) at the Greenbelt Development Park located in Toledo, Ohio, within the Toledo/Sandusky Customs port of entry (FTZ Docket 43-2004; filed 9/20/04);

Whereas, notice inviting public comment was given in the Federal Register (69 FR 57263, 9/24/04) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 8 is approved, subject to the Act and the Board's regulations, including Section 400.28, and subject to an initial five-year time limit (to August 31, 2010) with extension available upon review.

Signed at Washington, DC, this 23rd day of August 2005.

Joseph A. Spetrini,
Acting Assistant Secretary of Commerce for Import Administration, Alternate Chairman Foreign-Trade Zones Board.
Attest:
Dennis Puccinelli,
Executive Secretary.

[FR Doc. 05-17228 Filed 8-29-05; 8:45 am]

Billing Code: 3510-DS-S